FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 7, 2013.

A. Federal Reserve Bank of Chicago (Colette A. Fried, Assistant Vice President) 230 South LaSalle Street, Chicago, Illinois 60690-1414:

1. Palen Trust for Descendents and Edward Palen, as trustee of the Palen Trust for Descendents, individually, and together as a group acting in concert with the Palen Marital Trust, Edward Palen, Lorraine Palen, and Joseph Palen, individually and as co-trustees of the Palen Marital Trust, Elizabeth Dray and Judith Somers, all of Forrest, Illinois; Marie King, Piper City, Illinois; and Leona Pacheco, Springfield, Illinois;, to retain voting shares of Forrest Bancshares, Inc., and thereby indirectly retain voting shares of First State Bank of Forrest, both in Forrest, Illinois.

Board of Governors of the Federal Reserve System, January 18, 2013.
Robert deV. Frierson,
Secretary of the Board.

[FR Doc. 2013-01466 Filed 1-24-13; 8:45 am]

BILLING CODE 6210-01-P